NUCLEAR REGULATORY COMMISSION

Notice of Withdrawal of Proposed Voluntary Industry Initiative Program

The U.S. Nuclear Regulatory Commission has issued this notice to inform stakeholders that the Commission has approved the withdrawal of the proposed (Voluntary) Industry Initiative Program and related guidelines.

The decision to develop guidelines for use of industry initiatives in the regulatory process is an outgrowth of the Commission's Direction Setting Initiative (DSI) 13, “ ‘The Role of Industry (DSI-13)’ and Use of Industry Initiatives” (SECY-97-303), dated December 31, 1997, and the associated SRM issued on April 16, 1998. SECY-99-063, “The Use by Industry of Voluntary Initiatives in the Regulatory Process,” forwarded to the Commission on March 2, 1999, proposed the development of NRC guidelines for crediting industry initiatives in lieu of taking regulatory action. On May 27, 1999, the Commission issued an SRM approving the staff's recommendations in SECY-99-063, and agreed that the current regulatory framework does not preclude voluntary industry initiatives. The Commission also agreed that existing regulatory processes can be used to support implementation of voluntary industry initiatives as long as such initiatives will not be used in lieu of regulatory action where a question of adequate protection exists. The SRM directed the staff to move forward, working with the industry and other stakeholders, in developing the guidelines for using voluntary industry initiatives.

In response to the staff requirements memorandum (SRM) issued on June 28, 2000 to SECY-00-0116, “Industry Initiatives in the Regulatory Process,” the staff revised the proposed guidelines to read as directed. These revised “Proposed Guidelines for Including Industry Initiatives in the Regulatory Process” were published in the Federal Register on August 31, 2000. The Commission also directed that the staff should provide the final version of the guidelines to the Commission for review in the event significant negative public comments were received on the proposed guidelines.

On July 5, 2001, the staff issued SECY-01-0121, “Industry Initiatives in the Regulatory Process” http://www.nrc.gov/NRC/COMMISSION/SECYS/2001-0121scy.pdf to inform the Commission of the public comments received in response to the publication of the proposed guidelines in the Federal Register and the Staff's resulting reevaluation of the need for those guidelines. Nearly all the comments that were received from stakeholder in response to the publication of the proposed guidelines in the Federal Register were negative. The general comments were to the effect that the formal process described in the proposed guideline should not be implemented. The specific comments provided suggestions for improving the proposed guideline, assuming it was implemented. To address the specific comments, the staff revised the guidelines to incorporate some of the suggested improvements within the previous structure and framework. The staff also evaluated whether a different approach would be more effective in resolving stakeholder comments and achieving NRC goals. After carefully considering both industry and public stakeholder comments, and taking into account the processes described in SECY-99-143, “Revisions to Generic Communication Program,” the staff recommended to the Commission that the proposed guidelines and the formal process described therein are not needed and that the existing regulatory process, with some minor revisions, is sufficient.

On August 2, 2001, the Commission issued an SRM http://www.nrc.gov/NRC/COMMISSION/SRM/2001-0121srm.html approving the staff's plan to withdraw the proposal for implementation of a new industry initiative program and the related guidelines, and to notify stakeholders of this action.

Dated at Rockville, Maryland, this 10th day of August, 2001.
For the Nuclear Regulatory Commission.
Patrick M. Madden,
Acting Chief, Operational Experience and Non-Power Reactors Branch, Division of Regulatory Improvement Programs, Office of Nuclear Reactor Regulation.

[FR Doc. 01-20889 Filed 8-17-01; 8:45 am]

BILLING CODE 7590-01-P